DEPARTMENT OF THE INTERIOR

Bureau of Indian Affairs

[190A2100DD/AAKC001030/A0A501010.999900 253G; OMB Control Number 1076-NEW]

Agency Information Collection Activities; Human Capital Management Strengths and Needs Assessment

AGENCY: Bureau of Indian Affairs, Interior.

ACTION: Notice of information collection; request for comment.

SUMMARY: In accordance with the Paperwork Reduction Act of 1995, we, the Bureau of Indian Education (BIE) are proposing a new information collection to gain an understanding of processes and practices within BIE schools.

DATES: Interested persons are invited to submit comments on or before January 22, 2019.

ADDRESSES: Send your comments on this information collection request (ICR) by mail to The Bureau of Indian Education, 1011 Indian School Road NW, Suite 332, Albuquerque, NM 87104; or by email to Veronica Lane, Veronica.Lane@bie.edu. Please reference OMB Control Number 1076-NEW in the subject line of your comments.

FOR FURTHER INFORMATION CONTACT: To request additional information about this ICR, contact Veronica Lane by email at Veronica.Lane@bie.edu, or by telephone at 505-563-5279.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the BIE; (2) will this information be processed and used in a timely manner; (3) is the estimate of burden accurate; (4) how might the BIE enhance the quality, utility, and clarity of the information to be collected; and (5) how might the BIE minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The purpose of the Human Capital Management Strengths and Needs Assessment process is to gain an understanding of processes and practices within BIE schools in five areas including: Hiring, retention, staff support and development, learning environment, school culture and community engagement. Information will be collected from school staff members, residential staff members, school board members, and parents through online surveys. The goal of collecting this information is to capture the perspective of stakeholders when considering a school's strengths and areas of improvement in relation to human capital functions. The BIE will use the information collected from this process to provide targeted individualized support to schools and to inform institutional change and improvement in areas including but not limited to hiring, professional development, and retention.

Title of Collection: Human Capital Management Strengths and Needs Assessment.

OMB Control Number: 1076-NEW.

Form Number: None.

Type of Review: New.

Respondents/Affected Public: School staff, residential staff, parents, and school board members affiliated with Bureau-funded schools.

Total Estimated Number of Annual Respondents: 380.

Total Estimated Number of Annual Responses: 380.

Estimated Completion Time per Response: Varies from 10 to 40 minutes depending on role of respondent.

Total Estimated Number of Annual Burden Hours: 148 hours.

Respondent's Obligation: Required to Obtain a Benefit.

Frequency of Collection: Annually.

Total Estimated Annual Nonhour Burden Cost: None.

An agency may not conduct or sponsor and a person is not required to respond to a collection of information unless it displays a currently valid OMB control number.

The authority for this action is the Paperwork Reduction Act of 1995 (44 U.S.C. 3501 et seq.).

Elizabeth K. Appel,
Director, Office of Regulatory Affairs and Collaborative Action, Indian Affairs.

[FR Doc. 2018-25482 Filed 11-21-18; 8:45 am]

BILLING CODE 4337-15-P